DEPARTMENT OF THE INTERIOR

Bureau of Land Management

[LLWY921000,L14300000.ET0000; WYW 149499]

Public Land Order No. 7799; Withdrawal of Public Land for the Rock Springs Administrative Site Addition; Wyoming

AGENCY: Bureau of Land Management, Interior.

ACTION: Public land order.

SUMMARY: This order withdraws 4.93 acres of public land from settlement, sale, location, and entry under the general land laws, including the United States mining laws, for a period of 20 years to protect the Rock Springs Administrative Site addition.

DATES: Effective Date: September 24, 2012.

FOR FURTHER INFORMATION CONTACT: Diane Schurman, Realty Specialist, Bureau of Land Management, Wyoming State Office, 5353 N. Yellowstone Road, P.O. Box 1828, Cheyenne, Wyoming 82003, 307-775-6189 or via email at dschurma@blm.gov. Persons who use a telecommunications device for the deaf (TDD) may call the Federal Information Relay Service (FIRS) at 1-800-877-8339 to contact the above individual. The FIRS is available 24 hours per day, 7 days per week, to leave a message or question with the above individual. You will receive a reply during normal business hours.

SUPPLEMENTARY INFORMATION: The Bureau of Land Management will manage the land to protect the capital improvements associated with development and maintenance of the Rock Springs Administrative Site addition. The land has been and will remain open to mineral leasing.

Order

By virtue of the authority vested in the Secretary of the Interior by Section 204 of the Federal Land Policy and Management Act of 1976, 43 U.S.C. 1714, it is ordered as follows:

1. Subject to valid existing rights, the following described public land is hereby withdrawn from settlement, sale, location, and entry under the general land laws, including the United States mining laws, but not from leasing under the mineral leasing laws, for the Bureau of Land Management to protect the significant capital improvements associated with the Rock Springs Administrative Site addition:

Sixth Principal Meridian

T. 19 N., R. 105 W.,

Sec. 14, lot 19.

The area described contains 4.93 acres in Sweetwater County.

2. The withdrawal made by this order does not alter the applicability of those public land laws governing the use of lands under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: September 7, 2012.
Rhea S. Suh,
Assistant Secretary—Policy, Management and Budget.

[FR Doc. 2012-23477 Filed 9-21-12; 8:45 am]

BILLING CODE 4310-22-P